FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 010786-012.

Title: Contship and Italia di Navigazione SpA Space Charter and Sailing Agreement.

Parties: Contship Containerlines, Italia di Navigazione S.p.A.

Synopsis: The proposed agreement modification increases the minimum number of slots chartered by Italia on Contship's vessels from 130 to 150.

Agreement No.: 011671-004.

Title: Italia/Contship Space Charter and Sailing Agreement.

Parties: Italia di Navigazione S.p.A., Contship Containerlines, Lykes Lines Limited, LLC, TMM Lines Limited, LLC.

Synopsis: The proposed amendment restates the agreement and adds TMM Lines Limited and Lykes Lines Limited as parties, provides for new slot allocations among the parties, eliminates obsolete language, and changes the name of the agreement.

By Order of the Federal Maritime Commission.
Dated: November 30, 2001.
Bryant L. VanBrakle,
Secretary.

[FR Doc. 01-30180 Filed 12-5-01; 8:45 am]

BILLING CODE 6730-01-P